LEGAL SERVICES CORPORATION

Sunshine Act Meeting of the Board of Directors; Amended Notice; Participant Dial-In Number Added to Notice

Notice: The Legal Services Corporation (LSC) is announcing an amendment to the notice of the Board of Directors meeting scheduled for Tuesday, May 26, 2009 via conference call. The Board of Directors meeting was announced in the Federal Register issue dated May 20, 2009, 74 FR 23748. The sole amendment to the notice is to add the Participant Dial-In Number. Other than adding the Participant Dial-In Number there is no other change to the announcement cited above.

Time and Date: The Board of Directors of the Legal Services Corporation will meet on May 26, 2009 via conference call. The meeting will begin at 11 a.m. (EDT), and continue until conclusion of the Board's agenda.

Location: 3333 K Street, NW., Washington, DC 20007, 3rd Floor Conference Room.

Status of Meeting: Open. Directors will participate by telephone conference in such a manner as to enable interested members of the public to hear and identify all persons participating in the meeting. Members of the public may observe the meeting by joining participating staff at the location indicated above or calling 1-800-247-9979 (Conference ID# 99970441).

Matters to be Considered 1. Approval of the agenda.

2. Consider and act on Board of Directors' response to the Inspector General's Semiannual Report to Congress for the period of October 1, 2008 through March 31, 2009.

3. Consider and act on other business.

4. Public comment.

Contact Person for Information: Katherine Ward, Executive Assistant to the Vice President for Legal Affairs, at (202) 295-1500.

Special Needs: Upon request, meeting notices will be made available in alternate formats to accommodate visual and hearing impairments. Individuals who have a disability and need an accommodation to attend the meeting may notify Katherine Ward, at (202) 295-1500.

Dated: May 15, 2009.
Victor M. Fortuno,
Vice President for Legal Affairs, General Counsel & Corporate Secretary.

[FR Doc. E9-12297 Filed 5-21-09; 4:15 pm]

BILLING CODE 7050-01-P